DEPARTMENT OF THE INTERIOR

Fish and Wildlife Service

FWS-R6-ES-2014-N059; FF06E24000-145-FXES11150600000]

Endangered and Threatened Wildlife and Plants; Incidental Take Permit Application; Proposed Low-Effect Habitat Conservation Plan for the Preble's Meadow Jumping Mouse at the Kettle Creek Ranch in El Paso County, Colorado

AGENCY: Fish and Wildlife Service, Interior.

ACTION: Notice of availability; request for comments.

SUMMARY: We, the U.S. Fish and Wildlife Service (Service), received a permit application from Vintage Companies and are announcing the availability of a draft low-effect Habitat Conservation Plan (HCP) for review and comment by the public and Federal, Tribal, State, and local governments. The proposed permit would authorize the incidental take of the federally threatened Preble's meadow jumping mouse from Vintage Companies' proposed Kettle Creek Ranch residential development in El Paso County, Colorado. We request comments on the permit application, including the draft low-effect HCP.

DATES: Written comments must be submitted by May 7, 2014.

ADDRESSES: Send written comments by U.S. mail to Susan Linner, Field Supervisor, Colorado Ecological Services Field Office, U.S. Fish and Wildlife Service, P.O. Box 25486 (DFC MS 65412), Denver, Colorado 80225-0486, or via email to coloradoES@fws.gov. You also may send comments by facsimile to 303-236-4005. For how to access the documents, see Availability of Documents in the SUPPLEMENTARY INFORMATION section.

FOR FURTHER INFORMATION CONTACT: Craig Hansen, U.S. Fish and Wildlife Service, Colorado Ecological Services Field Office, telephone: 303-236-4749 (see ADDRESSES). If you use a telecommunications device for the deaf (TDD), please call the Federal Information Relay Service (FIRS) at 800-877-8339.

SUPPLEMENTARY INFORMATION: This notice advises the public that Vintage Companies has applied to the U.S. Fish and Wildlife Service (Service) for an incidental take permit pursuant to section 10(a)(1)(B) of the Endangered Species Act (Act) of 1973, as amended (16 U.S.C. 1538). The proposed permit would authorize the incidental take of the federally threatened Preble's meadow jumping mouse, or PMJM (Zapus hudsonius preblei), from Vintage Companies' proposed Kettle Creek Ranch residential development in El Paso County, Colorado. The proposed incidental take permit would expire 20 years after the issuance date.

Availability of Documents

The draft low-effect HCP is available for download from our Web site at http://www.fws.gov/coloradoES/KettleCreekHCP.html. You also may review a copy of this document during regular business hours at the Colorado Ecological Services Field Office (see ADDRESSES). If you do not have access to the Web site or cannot visit our office, you may request copies by telephone at 303-236-4773, by letter to the Colorado Field Office, or by email to coloradoES@fws.gov.

Background

Section 9 of the Act and its implementing regulations prohibit take of species listed as endangered or threatened. The definition of take under the Act includes to “harass, harm, pursue, hunt, shoot, wound, kill, trap, capture, or collect listed species or to attempt to engage in such conduct” (16 U.S.C. 1532(19)). Section 10 of the Act (16 U.S.C. 1539) establishes a program whereby persons seeking to pursue activities that are otherwise legal, but could result in take of federally protected species, may receive an incidental take permit (ITP). Applicants for ITPs must submit a HCP that meets the section 10 permit issuance criteria. “Low-effect” incidental take permits are those permits that, despite their authorization of some small level of incidental take, individually and cumulatively have a minor or negligible effect on the species covered in the HCP.

Vintage Companies' permit application includes a draft low-effect Habitat Conservation Plan (HCP) for the PMJM at the Kettle Creek Ranch residential development. The low-effect HCP describes the proposed project and the measures Vintage Companies would undertake to minimize and mitigate impacts to the PMJM.

We intend to process this application under a categorical exclusion from the National Environmental Policy Act (NEPA) of 1969 in accordance with our Habitat Conservation Planning Handbook (November 1996). We request comments on Vintage Companies' permit application and the draft low-effect HCP.

Proposed Action

Vintage Companies proposes to develop approximately 38 acres of previously undeveloped land at the Kettle Creek Ranch into a residential development with single-family and multi-dwelling homes. The Kettle Creek Ranch is located at the northwest corner of Old Ranch Road and Chapel Ridge Drive to the north of the City of Colorado Springs, in El Paso County, Colorado (Section 21, Township 12 South, Range 66 West; Latitude: 38.985707°; Longitude: −104.775375°). Vintage Companies will construct the residential lots next to Kettle Creek and its tributaries, where trapping surveys verified that the PMJM occurs.

Construction, loss of habitats, and increased human presence within the Kettle Creek Ranch project area could take PMJM. Developing the Kettle Creek Ranch into residential lots would permanently remove 0.262 acre (0.106 hectare) of PMJM habitats along the southern tributary of Kettle Creek. Other development activities would temporarily affect 0.118 acre (0.048 hectare) of PMJM habitat along Kettle Creek. Additionally, by increasing erosion, sedimentation, or introducing noxious weeds, the development may affect the composition, structure, or density of riparian vegetation along Kettle Creek and its tributaries, reducing habitat quality and the PMJM's ability to feed, breed, or shelter. Following construction, pets, such as house cats, could kill PMJM and increased pedestrian traffic along Kettle Creek and its tributaries could disturb PMJM.

Vintage Companies' draft low-effect HCP outlines conservation measures, best management practices, habitat enhancement goals, and monitoring requirements in order to avoid, minimize, and mitigate potential impacts to the PMJM from the Kettle Creek Ranch development. To mitigate the 0.262 acres (0.106 hectares) of permanent habitat loss, Vintage Companies will enhance 1.601 acres (0.648 hectare) of PMJM habitat along Kettle Creek and its tributaries. Additionally, Vintage Companies will improve PMJM habitats and stream flow by planting native grasses, shrubs, and trees, managing noxious weeds, and removing faulty culverts. Vintage Companies will adaptively manage and monitor the success of the mitigation efforts and will provide annual reports to the Service until the success criteria are achieved. By improving the quality and connectivity of habitats at Kettle Creek and its tributaries, successful implementation of the low-effect HCP may benefit the PMJM.

Our Preliminary Determination

The Service has made a preliminary determination that approval of the proposed HCP qualifies as a categorical exclusion under NEPA, as provided by the Department of the Interior Manual (516 DM 2 Appendix 1 and 516 DM 6 Appendix 1) and as a “low-effect” habitat conservation plan as defined by our Habitat Conservation Planning Handbook (November 1996).

We base our determination on the following information:

(1) The size and scope of the incidental take of PMJM from the proposed project is relatively small and limited to a maximum of 0.262 acres (0.106 hectares; 11,413 square feet) of permanent habitat loss and 0.118 acre (0.048 hectare; 5,140 square feet) of temporary habitat loss, or take of one PMJM over 20 years.

(2) The total amount of take resulting from impacts to 0.380 acre (0.154 hectare; 16,553 square feet) equates to less than 0.01 percent of the PMJM's overall occupied range in Colorado.

We base our determination that a HCP qualifies a low-effect plan on the following three criteria:

(1) Implementation of the HCP would result in minor or negligible effects on federally listed, proposed, and candidate species and their habitats;

(2) Implementation of the HCP would result in minor or negligible effects on other environmental values or resources; and

(3) Impacts of the HCP, considered together with the impacts of other past, present, and reasonably foreseeable similarly situated projects, would not result, over time, in cumulative effects to environmental values or resources that would be considered significant.

We conclude that implementation of the plan would result in overall minor or negligible effects on the PMJM and its habitats. We may revise this preliminary determination based on public comments submitted in response to this notice. We will evaluate the permit application, the draft low-effect HCP, and comments submitted herein to determine whether the application meets the requirements of section 10(a) of the Act. If the application satisfies the requirements, we will issue a permit for the incidental take of the PMJM from the development of the Kettle Creek Ranch. We will make the final permit decision after considering the public comments.

Based upon this preliminary determination, we do not intend to prepare further NEPA documentation. We will consider public comments in making the final determination on whether to prepare such additional documentation.

Public Availability of Comments

Before including your address, phone number, email address, or other personal identifying information with your comment, you should be aware that your entire comment—including your personal identifying information—may be made publicly available at any time. While you can ask us in your comment to withhold your personal identifying information from public review, we cannot guarantee that we will be able to do so.

Authority

We provide this notice under section 10 of the Act (16 U.S.C. 1531 et seq.) and NEPA regulations (40 CFR 1506.6).

Dated: April 1, 2014.
Susan Linner,
Field Supervisor, Colorado Ecological Services Field Office.

[FR Doc. 2014-07670 Filed 4-4-14; 8:45 am]

BILLING CODE 4310-55-P